DEPARTMENT OF THE INTERIOR

Bureau of Reclamation

New Melones Lake Area Resource Management Plan, Tuolumne and Calaveras Counties, CA

AGENCY: Bureau of Reclamation, Interior.

ACTION: Notice of availability of the Draft Resource Management Plan/Environmental Impact Statement (RMP/EIS) and notice of public meetings.

SUMMARY: Pursuant to the National Environmental Policy Act of 1969 (as amended), the Bureau of Reclamation (Reclamation) has made available for public review and comment a Draft RMP/EIS for the New Melones Lake Area. The Draft RMP/EIS describes and presents the environmental effects of four alternatives, including no action, for future use of the project area for recreation and resource protection and management. The purpose of the public meetings is to provide the public with an opportunity to comment on management and environmental issues addressed in the Draft RMP/EIS. Written comments will be accepted from individuals and organizations on the Draft RMP/EIS.

DATES: Two public open houses will be held on Wednesday, December 2, 2009, one from 1 to 4 p.m. and the other from 6 to 9 p.m. in Sonora, California.

Submit written comments on the Draft RMP/EIS to Ms. Melissa Vignau at the address below by January 4, 2010.

ADDRESSES: The public open houses will be held at New Melones Visitor Center, 6850 Studhorse Flat Road, Sonora, California 95370.

Send written comments on the Draft RMP/EIS to Melissa Vignau, Natural Resources Specialist, 7794 Folsom Dam Road, Folsom, CA 95630. Send requests for a compact disk or a bound copy of the Draft RMP/EIS to Melissa Vignau, at the above address; telephone: 916-989-7182. Copies of the Draft RMP/EIS will be available for review at: http://www.usbr.gov/mp/nepa/nepa_projdetails.cfm?Project_ID=2536.

See SUPPLEMENTARY INFORMATION Section for locations where copies of the Draft RMP/EIS are available for public review.

FOR FURTHER INFORMATION CONTACT: Melissa Vignau, Natural Resources Specialist, Reclamation, at 916-989-7182 or Dan Holsapple, Acting New Melones Resource Manager, Reclamation, at 209-536-9094.

SUPPLEMENTARY INFORMATION: This planning activity encompasses approximately 30,000 acres of publicly accessible water and land owned and managed by Reclamation. The RMP, which will replace the New Melones Lake Area Master Plan of 1976, will be the primary management document for Reclamation's New Melones Lake Area, providing a defined purpose, vision, long-term goals, and management guidelines. It will be used by Reclamation as a framework for guiding decision-making related to future development potential, on-going management, public health and safety, and public use of the New Melones Lake Area.

The RMP attempts to enhance and expand the recreation opportunities while also providing more active protection and management of natural and cultural resources. The RMP is intended to be implemented over an extended period as determined by both user demand and need. To do so, the RMP provides goals and guidelines relating to natural, cultural and visual resources, water quality, circulation, visitor services, interpretation and operations.

The EIS is a program-level analysis of the potential environmental impacts associated with adoption of the RMP. The RMP is intended to be predominantly self-mitigating through implementation of RMP policies and management strategies, and the EIS will also includes measures intended to reduce the adverse effects of the RMP. Copies of the Draft EIS are available for public review at the following locations:

• Bureau of Reclamation, Central California Area Office, New Melones Lake Office, 6850 Studhorse Flat Road, Sonora, California 95370.

• City of Angels Camp, City Hall, 584 S. Main Street, Angels Camp, CA 95222.

• Calaveras Planning Department, Calaveras County Government Center, 891 Mountain Ranch Road, San Andreas, CA 95249.

• San Andreas Central Library, 1299 Gold Hunter Road, San Andreas, CA 95249.

• Tuolumne County Administrator's Office, Administration Building, 2 South Green St., 4th Floor, Sonora, CA 95370.

• Sonora Main Branch Library, 480 Greenley Rd., Sonora, CA 95370.

If special assistance is required at the public hearings, please contact Mrs. Melissa Vignau at 916-989-7182 (e-mail: mbrockman@usbr.gov). Please notify Mrs. Vignau as far in advance of the open houses as possible to enable Reclamation to secure the needed services. If a request cannot be honored, the requestor will be notified.

Before including your name, address, phone number, e-mail address, or other personal identifying information in your comment, you should be aware that your entire comment including your personal identifying information, may be made publicly available at any time. While you can ask us in your comment to withhold your personal identifying information from public review, we cannot guarantee that we will be able to do so.

Dated: October 23, 2009.
Pablo R. Arroyave,
Deputy Regional Director, Mid-Pacific Region.

[FR Doc. E9-26320 Filed 10-30-09; 8:45 am]

BILLING CODE 4310-MN-P